ENVIRONMENTAL PROTECTION AGENCY

40 CFR Part 52

[EPA-R06-OAR-2006-0389; FRL-8752-8]

Approval of Air Quality Implementation Plans; Oklahoma; Recodification of Regulations

AGENCY: Environmental Protection Agency (EPA).

ACTION: Direct final rule.

SUMMARY: The EPA is approving portions of the revisions to the Oklahoma State Implementation Plan (SIP) submitted on February 14, 2002. Most of the revisions are administrative in nature and modify redundant or incorrect text within the SIP. The revisions also include renumbered or recodified portions of the SIP and new sections that incorporate Federal rules. We are approving the revisions in accordance with the requirements of section 110 of the Clean Air Act (the Act) and EPA's regulations.

DATE: Comments must be received on or before January 28, 2009. Direct final rule will be effective February 27, 2009 without further notice unless EPA receives adverse comments by January 28, 2009. If adverse comments are received, EPA will publish a timely withdrawal of the direct final rule in the Federal Register informing the public that the rule will not take effect.

ADDRESSES: Submit your comments, identified by Docket No. EPA-R06-OAR-2006-0389, by one of the following methods:

• Federal Rulemaking Portal: http://www.regulations.gov.

• Follow the online instructions for submitting comments.

• EPA Region 6 “Contact Us” Web site: http://epa.gov/region6/r6coment.htm. Please click on “6PD (Multimedia)” and select “Air” before submitting comments.

• E-mail: Mr. Guy Donaldson at donaldson.guy@epa.gov. Please also send a copy by e-mail to the person listed in the FOR FURTHER INFORMATION CONTACT section below.

• Fax: Mr. Guy Donaldson, Chief, Air Planning Section (6PD-L), at fax number 214-665-7242.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays, and not on legal holidays. Special arrangements should be made for deliveries of boxed information.

Instructions: Direct your comments to Docket No. EPA-R06-OAR-2006-0389. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in www.regulations.gov or in hard copy at the Air Planning Section (6PD-L), Environmental Protection Agency, 1445 Ross Avenue, Suite 700, Dallas, Texas 75202-2733. The State submittal is voluminous and only the portions of the submittal being acted upon in this Federal Register are included in the Regulations.gov docket. The entire State submittal is available for public viewing at the Environmental Protection Agency Region 6 Office at the address above. The submittal will be made available by appointment for public inspection in the Region 6 FOIA Review Room between the hours of 8:30 a.m. and 4:30 p.m. weekdays except for legal holidays. Contact the person listed in the FOR FURTHER INFORMATION CONTACT paragraph below or Mr. Bill Deese at 214-665-7253 or Mr. Carl Young at 214-665-6645 or Ms. Carrie Paige at 214-665-6521 to make an appointment. If possible, please make the appointment at least two working days in advance of your visit. There will be a fee of 15 cents per page for making photocopies of documents. On the day of the visit, please check in at the EPA Region 6 reception area at 1445 Ross Avenue, Suite 700, Dallas, Texas.

The State submittal is also available for public inspection during official business hours, by appointment, at the Oklahoma Department of Environmental Quality, Air Quality Division, 707 North Robinson, P.O. Box 1677, Oklahoma City, Oklahoma 73101-1677.

FOR FURTHER INFORMATION CONTACT: Emad Shahin, Air Planning Section (6PD-L), Environmental Protection Agency, Region 6, 1445 Ross Avenue, Suite 700, Dallas, Texas 75202-2733, telephone 214-665-6717; fax number 214-665-7263; e-mail address shahin.emad@epa.gov.

SUPPLEMENTARY INFORMATION: Throughout this document, “we,” “our,” and “us” refers to EPA.

Outline

I. What Action Is EPA Taking?

II. Background

III. Summary of Changes to the Oklahoma SIP

IV. Final Action

V. Statutory and Executive Order Reviews

I. What Action Is EPA Taking?

Today we are approving portions of the revisions to the Oklahoma SIP, submitted by the Oklahoma Secretary of the Environment on February 14, 2002. The revisions affect the Oklahoma Administrative Code (OAC), the official compilation of agency rules and executive orders for the State of Oklahoma. The majority of revisions are administrative in nature, stemming from the State's agency-wide “re-write/de-wrong” initiative, which served to repeal or otherwise modify redundant or incorrect language within the OAC. The variety of revisions include recodified portions of the Oklahoma SIP, new sections that incorporate federal rules, deletions of duplicative and outdated rules, and edits that simplify text and correct errors. We are approving these revisions in accordance with section 110 of the Act. EPA is publishing this rule without prior proposal because we view this as a noncontroversial amendment and anticipate no relevant adverse comments. However, in the proposed rules section of this Federal Register publication, we are publishing a separate document that will serve as the proposal to approve the SIP revision if relevant adverse comments are received. This rule will be effective on February 27, 2009 without further notice unless we receive relevant adverse comment by January 28, 2009. If we receive relevant adverse comments, we will publish a timely withdrawal in the Federal Register informing the public that the rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

II. Background

The SIP is a set of air pollution regulations, control strategies, and technical analyses developed by the state to ensure that the state meets the National Ambient Air Quality Standards (NAAQS). These ambient standards are established under section 109 of the Act and they currently address six criteria pollutants: carbon monoxide, nitrogen dioxide, ozone, lead, particulate matter, and sulfur dioxide. The SIP is required by section 110 of the Act and can be extensive, containing state regulations or other enforceable documents and supporting information such as emission inventories, monitoring networks, and modeling demonstrations.

On November 3, 1999, we approved portions of the Oklahoma Department of Environmental Quality (ODEQ) Air Pollution Control Rules adopted by the State Legislature into the Oklahoma SIP and published those rules in Volume 64 of the Federal Register (FR), beginning on page 56929 (denoted 64 FR 56929). The date of the State's submittal to EPA was May 16, 1994. The revisions were codified in the OAC under Title 252 (Department of Environmental Quality), Chapter 100 (Air Pollution Control) and replaced most of the regulations in the Oklahoma SIP. We took no action on items in the submittal that were neither in, nor equivalent to, the Oklahoma SIP-approved regulations at that time; that is, we took no action on 252:100-7 (Permits), 252:100-8 (Operating Permits), 252:100-11 (Alternative Emissions Reduction Permits), 252:100-21 (Particulate Matter Emissions from Wood-Waste Burning Equipment), 252:100-41 (Control of Emission of Hazardous and Toxic Air Contaminants), and Appendix D (Particulate Matter Emission Limits for Wood Waste Burning Equipment). Per the Governor's request dated October 5, 1999, the Subchapters and Appendix listed above are hereby formally withdrawn from the 1994 submittal.

On November 8, 1999, (see 64 FR 60683) we approved revisions to the Oklahoma visibility protection plan in the Oklahoma SIP. This action amended section 1.4.4 of Oklahoma SIP-approved Regulation 1.4.

On August 2, 2000, (see 65 FR 47326) we published a Final rule that revised the format of U.S. Code of Federal Regulations (CFR), title 40, part 52, subpart LL, for materials submitted by Oklahoma that were incorporated by reference (IBR) into the Oklahoma SIP. This revised the organization of the Oklahoma “Identification of Plan” in 40 CFR 52.1920 to more clearly identify the enforceable elements of the SIP. The August 2000 rulemaking is the most recent Oklahoma SIP revision approved in the FR.

The February 14, 2002 submittal incorporates revisions to OAC Title 252, Chapters 4 (Rules of Practice and Procedure) and 100 (Air Pollution Control). The rules in this submittal were promulgated in compliance with the Oklahoma Administrative Procedures Act, published in the Oklahoma Register, the official state publication for rulemaking actions, and submitted in accordance with the requirements in 40 CFR Part 51. For more specific detail, see our Technical Support Document (TSD) in the docket for this rulemaking. In this rulemaking we are taking no action on the following: Chapter 4 (Rules of Practice and Procedure): Subchapters 1 (General Procedures), Subchapter 7 (Environmental Permit Process), and Appendix C (Permitting Process Summary); Chapter 100 (Air Pollution Control): Subchapter 5 (Fees for Minor and Part 70 Sources), Subchapter 7 (Permits for Minor Sources), Subchapter 8 (Permits for Part 70 Sources), and Subchapter 9 (Excess Emissions Reporting Requirements). These 6 subchapters and appendix will be addressed in separate actions.

III. Summary of Changes to the Oklahoma SIP

A. OAC 252:4, Rules of Practice and Procedure and Appendices A, B, and D

Chapter 4 is new to the SIP and provides administrative procedures for permit issuance, public notice, and administrative proceedings. Chapter 4 was adopted by the State to meet the requirements of the Oklahoma Administrative Procedures Act, which requires each agency to adopt rules describing its organization, method of operation, and methods by which the public may obtain or provide information to the agency. These rules also specify the requirements of all formal and informal procedures available, including a description of forms and instructions.

Revisions to Subchapters 3 (Meetings and Public Forums), 5 (Rulemaking) and 9 (Administrative Proceedings) are new but incorporate text from subchapters 1, 2, and 3 under the previous version. Since Oklahoma is merely reorganizing these provisions, EPA finds that these revisions make no substantive change to previously approved provisions.

B. OAC 252:100-3, Air Quality Standards and Increments

Revises the values for particulate matter in Table 252:100-3-4(b) to adopt EPA's Prevention of Significant Deterioration (PSD) increments in accordance with 40 CFR 51.166. PSD increments limit increases in pollutant concentration due to new sources. This is a substantive change to comply with the PSD regulations and we are approving this change.

C. OAC 252:100-13, Open Burning

Revisions to Subchapter 13 delete redundant text, renumber or recodify existing text, and apply format and minor edits; these changes are not substantive. “Domestic refuse” and “Land clearing operation” are added to the definitions and a section on “Disaster relief” is added. We have examined these changes and have determined that they should be approved because they are non-substantive in nature or enhance the SIP by regulating activities not previously regulated.

D. OAC 252:100-17, Incinerators

Revises Subchapter 17 and Appendices A and B. The revisions include recodification of text, and adding new definitions. The opacity section with references to Ringelmann standards are deleted and replaced by an opacity limit section in 252:100-25-3. A new section titled “Alternative incinerator design requirements”, which includes references to federal test methods is added. The appendices from section 17-6 (which has been revoked) are relocated to section 17-4. These changes clarify and improve the enforceability of the rule.

E. OAC 252:100-19, Control of Emission of Particulate Matter

Revises Subchapter 19 and Appendices C, D, and G. The revised Subchapter 19 features inserted text from Subchapters 21 and 27 (which are now revoked), a revised title, new definitions, and a Permit by Rule (PBR) for facilities that emit particulate matter and are not subject to NSPS, NESHAP, MACT, or other PBR. A PBR simplifies and streamlines the permitting process.

Appendices C and D delete the logarithmic graphic charts and replace them with tabulated data, making them easier to read and use. Appendix G moves from Subchapter 27 to Subchapter 19. EPA has reviewed the PBR for particulate matter sources and has determined that it is consistent with EPA's permitting requirement for minor sources at 40 CFR 51.160.

F. OAC 252:100-23, Control of Emissions From Cotton Gins

Revisions to Subchapter 23 include minor edits, format changes, and a PBR is added. EPA has reviewed the requirement for the PBR for cotton gins and found it to be consistent with EPA's permitting requirements.

G. OAC 252:100-24, Particulate Matter Emissions From Grain, Feed or Seed Operations

Revisions to Subchapter 24 establish industry-specific emission and control standards, new definitions and a PBR section. For grain, feed, and seed operations a new Appendix L contains PM-10 emission factors for PBR grain elevators. Additional changes concern specific opacity standards for these operations. The revisions are consistent with 40 CFR part 60, subpart DD and Appendix A, and EPA's permitting requirement for minor sources at 40 CFR 51.160.

H. OAC 252:100-25, Smoke, Visible Emissions and Particulates

Revisions to Subchapter 25 include grammatical edits, format revisions and an IBR of the federal opacity monitoring requirements for fluid bed catalytic cracking unit catalyst regenerators and fossil fuel-fired steam generators, as specified in 40 CFR Part 51, Appendix P. The revisions make the SIP consistent with federal rules.

I. OAC 252:100-27, Particulate Matter Emissions From Industrial and Other Processes and Operations

The text in Subchapter 27 is moved to Subchapters 7, 8, 17, 19, 23, 25 and 43, and Subchapter 27 is revoked. Because the requirements are only moved, the revocation of this section does not weaken the SIP.

J. OAC 252:100-29, Control of Fugitive Dust

Revisions to Subchapter 29 include minor edits and a new paragraph that provides examples of reasonable precautions to minimize pollution from fugitive dust. These are minor non-substantive changes.

K. OAC 252:100-31, Control of Emission of Sulfur Compounds

The revision to Subchapter 31 amends 252:100-31-25(c)(2) to provide a new limit for sulfur oxides emissions from new sulfur recovery plants operating in conjunction with other processes. The previous limit was 20 lb/ton of sulfur processed, maximum of two hours average. The revision changes that rate to values calculated based on an equivalent sulfur feed rate (in long tons per day) in the same manner as for natural gas processing in 252:100-31-25(c)(1) of this section.

L. OAC 252:100-33, Control of Emission of Nitrogen Oxides

Revisions to Subchapter 33 include the addition of definitions and a new section on applicability, which provide clarity. Editorial corrections are made to 100-33-2 (Emission Limits). Section 100-33-3 (Performance Testing) is revoked as it duplicates provisions in 100-43. These revisions clarify the SIP and improve it, therefore, they should be approved.

M. OAC 252:100-35, Control of Emission of Carbon Monoxide

Revisions to Subchapter 35 specify sources that are primary contributors of carbon monoxide emissions. Other changes include minor edits and the replacement of “foundry cupola” with “gray iron cupola.” Section 35-3 is revoked as it duplicates provisions in Subchapters 8 and 43. These changes are not substantive in nature but serve to clarify the rule.

N. OAC 252:100-37, Control of Emission of Volatile Organic Compounds (VOCs)

Revises Subchapter 37 by redefining the term “volatile organic compound (VOC)” and substituting “VOC” for “organic materials,” “organic solvents,” and “hydrocarbons;” deleting 252:100-37-3(a), which required new minor sources to apply best available control technology (BACT), since other rule and PBR requirements insure an adequate control level; exempting of methanol storage vessels at a drilling or production facility for use on site in 252:100-37-4(c); adding 252:100-37-15(c), which exempts VOC storage vessels that are subject to 40 CFR part 60 subparts K, Ka, or Kb; adding 252:100-37-16(c), which exempts VOC loading facilities subject to 40 CFR part 60 subpart XX or 40 CFR part 63 subpart R; deleting 252:100-37-25(c), which allows the emission of 3,000 pounds (lbs) per day or 450 lbs per hour of organic materials before controls are required; revising the alternate standard for coatings in 252:100-37-25(d); correcting 252:100-37-36 such that no emission of hydrocarbons or organic material is allowed from fuel-burning or refuse-burning equipment; adding 252:100-37-38(b), which exempts pumps and compressors subject to 40 CFR part 60 subparts VV, GGG, or KKK; and adding Part 9, the PBR for VOC storage and loading facilities. These revisions improve the SIP by eliminating exemptions and overlap with federal standards, and adding applicability and PBR requirements.

O. OAC 252:100-39, Emission of Volatile Organic Compounds (VOCs) in Nonattainment Areas and Former Nonattainment Areas

Revises Subchapter 39 by defining the term “VOC” and substituting VOC for “organic materials,” “organic solvents,” “volatile organic solvent (VOS),” and in some instances “hydrocarbons.” The new definition complies with 40 CFR 51.100(s). In addition, the revisions exempt storage vessels subject to the equipment standards in 40 CFR part 60 subparts Ka or Kb or the equipment standards in 40 CFR part 63 subparts CC or G from the requirements of 252:100-39-30; add minimum annual throughput of 120,000 gallons and minimum storage capacity of 10,000 gallons for determining applicability with 252:100-39-41(c); and clarify the definition of “aerospace” by adding “rework or repair.” These revisions prevent overlap with the federal NSPS requirements while maintaining the stringency of the rules.

P. OAC 252:100-45, Monitoring of Emissions

Revises Subchapter 45 to allow the use of any credible evidence to demonstrate compliance with or establish violations in enforcing the Oklahoma SIP. These revisions are consistent with EPA's Credible Evidence Revisions promulgated February 24, 1997 at 62 FR 8314 and codified at 40 CFR 51.212, 52.12, 52.33, 60.11 and 61.12.

Q. OAC 252:100, Appendices

1. Appendix A—Allowable Emissions for Incinerators With Capacities in Excess of 100/lbs/hr and Appendix B—Allowable Emissions for Incinerators With Capacities Less Than 100 lbs/hr

Makes a reference to Appendices A and B in section 252:100-17-4. These appendices were formerly referenced at 252:100-17-6, which is revoked by today's action. There are no revisions to these appendices; they are simply being referenced 100-17-4.

2. Appendix C—Particulate Matter Emission Limits for Fuel-Burning Equipment and Appendix D—Particulate Matter Emission Limits for Wood-Waste Burning Equipment

Revises Appendices C and D, which are referenced in section 252:100-19-4 and 252:100-19-10, respectively. Appendices C and D are modified from logarithmic graphic tables to tabular charts, making them easier to read and use.

3. Appendix E. Primary Ambient Air Quality Standards and Appendix F. Secondary Ambient Air Quality Standards

Oklahoma submitted two revisions to Appendices E and F. The first revisions, adopted by Oklahoma effective June 1, 1999, match the NAAQS for PM and ozone, promulgated on July 18, 1997 at 62 FR 38651. The second revisions to Appendices E and F, adopted by Oklahoma effective June 12, 2000, restore the primary and secondary ambient air quality standards to previous levels, which are neither current nor federally enforceable. Therefore, we are approving only the revisions adopted by Oklahoma effective June 1, 1999, which are consistent with the NAAQS for ozone and PM.

4. Appendix G. Allowable Rate of Emissions

The February 14, 2002, submittal references Appendix G in section 252:100-19-12. Appendix G was formerly referenced in Section 252:100-27-5, which is revoked by today's action. There are no revisions to Appendix G; it is simply being relocated to 252:100-19-12.

IV. Final Action

We are approving portions of the revisions to the Oklahoma SIP submitted to EPA on February 14, 2002, which apply to OAC 252:4, Rules of Practice and Procedure, and OAC 252:100, Air Pollution Control. These revisions replace the corresponding regulations in the Oklahoma SIP found in Chapter 100, Oklahoma Air Control Rules and in Regulation 1.4, Air Resources Management Permits Required. The revisions are consistent with the Act and EPA policy.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 27, 2009. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).) Parties with objections to this direct final rule are encouraged to file a comment in response to the parallel notice of proposed rulemaking for this action published in the proposed rules section of today's Federal Register, rather than file an immediate petition for judicial review of this direct final rule, so that EPA can withdraw this direct final rule and address the comment in the proposed rulemaking.

List of Subjects 40 CFR Part 52

Environmental protection, Air pollution control, Incorporation by reference, Intergovernmental relations, Nitrogen dioxides, Ozone, Reporting and recordkeeping requirements, Volatile Organic Compounds.

Dated: November 25, 2008.
Richard E. Greene,
Regional Administrator, Region 6.

40 CFR part 52 is amended as follows:

PART 52—[AMENDED]

1. The authority citation for part 52 continues to read as follows:

Authority: 42 U.S.C. 7401 et seq.

Subpart LL—Oklahoma

2. In § 52.1920 the table in paragraph (c) entitled “EPA APPROVED OKLAHOMA REGULATIONS” is amended as follows:

a. Following the entry for section 3.8(c), by revising the centered heading entry “Oklahoma Administrative Code, Title 252. Department of Environmental Quality, Chapter 100 (OAC 252:100). Air Pollution Control (Oklahoma Air Pollution Control Rules)” to read “OKLAHOMA ADMINISTRATIVE CODE, TITLE 252. DEPARTMENT OF ENVIRONMENTAL QUALITY” immediately followed by a new centered heading entry “CHAPTER 4 (OAC 252:4). RULES OF PRACTICE AND PROCEDURE” followed by new entries for “Subchapter 3. Meetings and Public Forums,” “Subchapter 5. Rulemaking,” “Subchapter 9. Administrative Proceedings,” followed by new centered heading “Appendices for OAC 252: Chapter 4,” followed by new entries for “252:4, Appendix A,” “252:4, Appendix B,” and “252:4, Appendix D,” followed by a new centered heading “CHAPTER 100 (OAC 252:100). AIR POLLUTION CONTROL”;

b. Under new centered heading “CHAPTER 100 (OAC 252:100). AIR POLLUTION CONTROL,” by revising the entries under Subchapter 3, Subchapter 13, and Subchapter 17;

c. By revising the title of Subchapter 19 to read “Subchapter 19. Control of Emission of Particulate Matter;” and revising the entries under Subchapter 19;

d. By revising the entries under Subchapter 23;

e. Immediately following section 252:100-23-7, by adding a new centered heading “Subchapter 24, Particulate Matter Emissions From Grain Feed or Seed Operations” followed by new entries for sections 252:100-24-1 to 252:100-24-7;

f. By revising the title of Subchapter 25 to read “Subchapter 25. Visible Emissions and Particulate” and revising the entries under Subchapter 25;

g. By removing the centered heading “Subchapter 27. Particulate Matter Emissions From Industrial and Other Processes and Operations,” and removing entries 252:100-27-1 to 252:200-27-5 under Subchapter 27;

h. By revising the entries under Subchapter 29, Subchapter 31, Subchapter 33, Subchapter 35, Subchapter 37, Subchapter 39, and Subchapter 45;

i. By revising the centered heading “Appendices” to read “OAC 252: Chapter 100 Appendices;” and by revising the entries for Appendix A, Appendix B, Appendix C, Appendix E, and Appendix F, and by adding new entries for Appendix D and Appendix L.

The additions and revisions read as follows:

§ 52.1920 Identification of plan.

* * * * *

(c) * * *

EPA Approved Oklahoma Regulations
State citation | Title/subject | State effective date | EPA approval date | Explanation
OKLAHOMA AIR POLLUTION CONTROL REGULATIONS
Regulation 1.4. Air Resources Management Permits Required
* * * * * * *
Regulation 3.8. Control of Emission of Hazardous Air Contaminants
* * * * * * *
3.8(c) | Emission Standards for Hazardous Air Contaminants | 4/19/1982 | 8/15/1983, 48 FR 36819
OKLAHOMA ADMINISTRATIVE CODE, TITLE 252. DEPARTMENT OF ENVIRONMENTAL QUALITY
CHAPTER 4 (OAC 252:4). RULES OF PRACTICE AND PROCEDURE
Subchapter 3. Meetings and Public Forums
252:4-3-1 | Meetings | 6/11/2001 | 12/29/2008 [Insert FR page number where document begins]
252:4-3-2 | Public forums | 6/11/2001 | 12/29/2008 [Insert FR page number where document begins]
Subchapter 5. Rulemaking
252:4-5-1 | Adoption and revocation | 6/11/2001 | 12/29/2008 [Insert FR page number where document begins]
252:4-5-2 | Rule development | 6/11/2001 | 12/29/2008 [Insert FR page number where document begins]
252:4-5-3 | Petitions for rulemaking | 6/11/2001 | 12/29/2008 [Insert FR page number where document begins]
252:4-5-4 | Notice of permanent rulemaking | 6/11/2001 | 12/29/2008 [Insert FR page number where document begins]
252:4-5-5 | Rulemaking hearings | 6/11/2001 | 12/29/2008 [Insert FR page number where document begins]
252:4-5-6 | Council actions | 6/11/2001 | 12/29/2008 [Insert FR page number where document begins]
252:4-5-7 | Presentation to Board | 6/11/2001 | 12/29/2008 [Insert FR page number where document begins]
252:4-5-8 | Board actions | 6/11/2001 | 12/29/2008 [Insert FR page number where document begins]
252:4-5-9 | Rulemaking record | 6/11/2001 | 12/29/2008 [Insert FR page number where document begins]
Subchapter 9. Administrative Proceedings
PART 1. ENFORCEMENT
252:4-9-1 | Notice of Violation (“NOV”) | 6/11/2001 | 12/29/2008 [Insert FR page number where document begins]
252:4-9-2 | Administrative compliance orders | 6/11/2001 | 12/29/2008 [Insert FR page number where document begins]
252:4-9-3 | Determining penalty | 6/11/2001 | 12/29/2008 [Insert FR page number where document begins]
252:4-9-4 | Assessment orders | 6/11/2001 | 12/29/2008 [Insert FR page number where document begins]
252:4-9-5 | Considerations for self-reporting of noncompliance | 6/11/2001 | 12/29/2008 [Insert FR page number where document begins]
PART 3. INDIVIDUAL PROCEEDINGS
252:4-9-31 | Individual proceedings filed by DEQ | 6/11/2001 | 12/29/2008 [Insert FR page number where document begins]
252:4-9-32 | Individual proceedings filed by others | 6/11/2001 | 12/29/2008 [Insert FR page number where document begins]
252:4-9-33 | Scheduling and notice of hearings | 6/11/2001 | 12/29/2008 [Insert FR page number where document begins]
252:4-9-34 | Administrative Law Judges and Clerks | 6/11/2001 | 12/29/2008 [Insert FR page number where document begins]
252:4-9-35 | Service | 6/11/2001 | 12/29/2008 [Insert FR page number where document begins]
252:4-9-36 | Responsive pleading | 6/11/2001 | 12/29/2008 [Insert FR page number where document begins]
252:4-9-37 | Prehearing conferences | 6/11/2001 | 12/29/2008 [Insert FR page number where document begins]
252:4-9-38 | Discovery | 6/11/2001 | 12/29/2008 [Insert FR page number where document begins]
252:4-9-39 | Subpoenas | 6/11/2001 | 12/29/2008 [Insert FR page number where document begins]
252:4-9-40 | Record | 6/11/2001 | 12/29/2008 [Insert FR page number where document begins]
252:4-9-41 | Motions | 6/11/2001 | 12/29/2008 [Insert FR page number where document begins]
252:4-9-42 | Continuances | 6/11/2001 | 12/29/2008 [Insert FR page number where document begins]
252:4-9-43 | Summary judgment | 6/11/2001 | 12/29/2008 [Insert FR page number where document begins]
252:4-9-44 | Default | 6/11/2001 | 12/29/2008 [Insert FR page number where document begins]
252:4-9-45 | Withdrawal and dismissal | 6/11/2001 | 12/29/2008 [Insert FR page number where document begins]
252:4-9-46 | Orders in administrative hearings | 6/11/2001 | 12/29/2008 [Insert FR page number where document begins]
PART 5. AIR QUALITY ADVISORY COUNCIL HEARINGS
252:4-9-51 | In general | 6/11/2001 | 12/29/2008 [Insert FR page number where document begins]
252:4-9-52 | Individual proceedings | 6/11/2001 | 12/29/2008 [Insert FR page number where document begins]
252:4-9-53 | Variance | 6/11/2001 | 12/29/2008 [Insert FR page number where document begins]
252:4-9-54 | State implementation plan hearings | 6/11/2001 | 12/29/2008 [Insert FR page number where document begins] | NOT in SIP: in the first sentence, the phrase “under 252:100-11” and the last sentence which begins with “Additional requirements for a SIP hearing * * *.”
Appendices for OAC 252:Chapter 4
252:4, Appendix A | Petition for Rulemaking Before the Environmental Quality Board | 6/11/2001 | 12/29/2008 [Insert FR page number where document begins]
252:4, Appendix B | Petition for Declaratory Ruling | 6/11/2001 | 12/29/2008 [Insert FR page number where document begins]
252:4, Appendix D | Style of the Case in an Individual Proceeding | 6/11/2001 | 12/29/2008 [Insert FR page number where document begins]
CHAPTER 100 (OAC 252:100). AIR POLLUTION CONTROL
Subchapter 1. General Provisions
* * * * * * *
Subchapter 3. Air Quality Standards and Increments
252:100-3-1 | Purpose | 5/26/1994 | 11/3/1999, 64 FR 59629
252:100-3-2 | Primary standards | 5/26/1994 | 11/3/1999, 64 FR 59629
252:100-3-3 | Secondary standards | 5/26/1994 | 11/3/1999, 64 FR 59629
252:100-3-4 | Significant deterioration increments | 7/1/1996 | 12/29/2008 [Insert FR page number where document begins]
Subchapter 5. Registration of Air Contaminant Sources
* * * * * * *
Subchapter 9. Excess Emission and Malfunction Reporting Requirements
* * * * * * *
Subchapter 13. Open Burning
252:100-13-1 | Purpose | 6/12/2000 | 12/29/2008 [Insert FR page number where document begins]
252:100-13-2 | Definitions | 6/12/2000 | 12/29/2008 [Insert FR page number where document begins]
252:100-13-5 | Open burning prohibited | 6/12/2000 | 12/29/2008 [Insert FR page number where document begins]
252:100-13-7 | Allowed open burning | 6/12/2000 | 12/29/2008 [Insert FR page number where document begins]
252:100-13-9 | General conditions and requirements for allowed open burning | 6/12/2000 | 12/29/2008 [Insert FR page number where document begins]
252:100-13-10 | Disaster relief | 6/12/2000 | 12/29/2008 [Insert FR page number where document begins]
252:100-13-11 | Responsibility for consequences of open burning | 6/12/2000 | 12/29/2008 [Insert FR page number where document begins]
Subchapter 15. Motor Vehicle Pollution Control Devices
* * * * * * *
Subchapter 17. Incinerators
PART 1. GENERAL PROVISIONS
252:100-17-1 | Purpose | 6/25/1998 | 12/29/2008 [Insert FR page number where document begins]
252:100-17-1.1 | Reference to 40 CFR | 6/25/1998 | 12/29/2008 [Insert FR page number where document begins]
252:100-17-1.2 | Terminology related to 40 CFR | 6/25/1998 | 12/29/2008 [Insert FR page number where document begins]
PART 3. INCINERATORS
252:100-17-2 | Applicability | 6/1/2001 | 12/29/2008 [Insert FR page number where document begins]
252:100-17-2.1 | Exemptions | 6/25/1998 | 12/29/2008 [Insert FR page number where document begins]
252:100-17-2.2 | Definitions | 6/25/1998 | 12/29/2008 [Insert FR page number where document begins]
252:100-17-3 | Opacity | 6/25/1998 | 12/29/2008 [Insert FR page number where document begins]
252:100-17-4 | Particulate matter | 6/25/1998 | 12/29/2008 [Insert FR page number where document begins]
252:100-17-5 | Incinerator design requirements | 6/1/2001 | 12/29/2008 [Insert FR page number where document begins]
252:100-17-5.1 | Alternative incinerator design requirements | 6/1/2001 | 12/29/2008 [Insert FR page number where document begins]
252:100-17-7 | Test methods | 6/25/1998 | 12/29/2008 [Insert FR page number where document begins]
Subchapter 19. Control of Emission of Particulate Matter
252:100-19-1 | Purpose | 6/1/2000 | 12/29/2008 [Insert FR page number where document begins]
252:100-19-1.1 | Definitions | 6/1/2000 | 12/29/2008 [Insert FR page number where document begins]
252:100-19-4 | Allowable particulate matter emission rates from fuel-burning units | 6/1/2000 | 12/29/2008 [Insert FR page number where document begins]
252:100-19-10 | Allowable particulate matter emission rates from indirectly fired wood fuel-burning units | 6/1/2000 | 12/29/2008 [Insert FR page number where document begins]
252:100-19-11 | Allowable particulate matter emission rates from combined wood fuel and fossil fuel fired steam generating units | 6/1/2000 | 12/29/2008 [Insert FR page number where document begins]
252:100-19-12 | Allowable particulate matter emission rates from directly fired fuel-burning units and industrial processes | 6/1/2000 | 12/29/2008 [Insert FR page number where document begins]
252:100-19-13 | Permit by rule | 6/1/2000 | 12/29/2008 [Insert FR page number where document begins]
Subchapter 23. Control of Emissions from Cotton Gins
252:100-23-1 | Purpose | 6/1/1999 | 12/29/2008 [Insert FR page number where document begins]
252:100-23-2 | Definitions | 6/1/1999 | 12/29/2008 [Insert FR page number where document begins]
252:100-23-3 | Applicability, general requirements | 6/1/2000 | 12/29/2008 [Insert FR page number where document begins] | NOT in SIP: paragraph (b)(2).
252:100-23-4 | Visible emissions (opacity) and particulates | 6/1/1999 | 12/29/2008 [Insert FR page number where document begins]
252:100-23-5 | Emission control equipment | 6/1/1999 | 12/29/2008 [Insert FR page number where document begins]
252:100-23-6 | Fugitive dust controls | 6/1/1999 | 12/29/2008 [Insert FR page number where document begins]
252:100-23-7 | Permit by rule | 6/1/1999 | 12/29/2008 [Insert FR page number where document begins]
Subchapter 24. Particulate Matter Emissions from Grain, Feed or Seed Operations
252:100-24-1 | Purpose | 6/1/1999 | 12/29/2008 [Insert FR page number where document begins]
252:100-24-2 | Definitions | 6/1/1999 | 12/29/2008 [Insert FR page number where document begins]
252:100-24-3 | Applicability, general requirements | 6/1/2000 | 12/29/2008 [Insert FR page number where document begins] | NOT in SIP: paragraph (b)(2).
252:100-24-4 | Visible emissions (opacity) limit | 6/1/1999 | 12/29/2008 [Insert FR page number where document begins]
252:100-24-5 | Certification | 6/1/1999 | 12/29/2008 [Insert FR page number where document begins]
252:100-24-6 | Fugitive dust controls | 6/1/1999 | 12/29/2008 [Insert FR page number where document begins]
252:100-24-7 | Permit by rule | 6/1/1999 | 12/29/2008 [Insert FR page number where document begins]
Subchapter 25. Visible Emissions and Particulates
252:100-25-1 | Purpose | 6/1/1999 | 12/29/2008 [Insert FR page number where document begins]
252:100-25-2 | General prohibition | 6/1/1999 | 12/29/2008 [Insert FR page number where document begins]
252:100-25-2.1 | Definitions | 6/1/1999 | 12/29/2008 [Insert FR page number where document begins]
252:100-25-3 | Opacity Limit | 6/1/1999 | 12/29/2008 [Insert FR page number where document begins]
252:100-25-4 | Alternative for particulates | 6/1/1999 | 12/29/2008 [Insert FR page number where document begins]
252:100-25-5 | Continuous emission monitoring for opacity | 6/1/1999 | 12/29/2008 [Insert FR page number where document begins]
Subchapter 29. Control of Fugitive Dust
252:100-29-l | Purpose | 5/26/1994 | 11/3/1999, 64 FR 59629
252:100-29-2 | General provisions | 6/1/2001 | 12/29/2008 [Insert FR page number where document begins]
252:100-29-3 | Precautions required in maintenance or nonattainment areas | 6/1/2001 | 12/29/2008 [Insert FR page number where document begins]
252:100-29-4 | Exception for agricultural purposes | 5/26/1994 | 11/3/1999, 64 FR 59629
Subchapter 31. Control of Emission of Sulfur Compounds
PART 1. GENERAL PROVISIONS
252:100-31-1 | Purpose | 5/26/1994 | 11/3/1999, 64 FR 59629
252:100-31-2 | Definitions | 5/26/1994 | 11/3/1999, 64 FR 59629
252:100-31-3 | Performance testing | 5/26/1994 | 11/3/1999, 64 FR 59629
PART 3. EXISTING EQUIPMENT STANDARDS
252:100-31-12 | Sulfur oxides | 5/26/1994 | 11/3/1999, 64 FR 59629
252:100-31-13 | Sulfuric acid mist | 5/26/1994 | 11/3/1999, 64 FR 59629
252:100-31-14 | Hydrogen sulfide | 5/26/1994 | 11/3/1999, 64 FR 59629
252:100-31-15 | Total reduced sulfur | 5/26/1994 | 11/3/1999, 64 FR 59629
PART 5. NEW EQUIPMENT STANDARDS
252:100-31-25 | Sulfur oxides | 7/1/1995 | 12/29/2008 [Insert FR page number where document begins]
252:100-31-26 | Hydrogen sulfide | 5/26/1994 | 11/3/1999, 64 FR 59629
Subchapter 33. Control of Emission of Nitrogen Oxides
252:100-33-l | Purpose | 5/26/1994 | 11/3/1999, 64 FR 59629
252:100-33-1.1 | Definitions | 6/1/2001 | 12/29/2008 [Insert FR page number where document begins]
252:100-33-1.2 | Applicability | 6/1/2001 | 12/29/2008 [Insert FR page number where document begins]
252:100-33-2 | Emission limits | 6/1/2001 | 12/29/2008 [Insert FR page number where document begins]
Subchapter 35. Control of Emission of Carbon Monoxide
252:100-35-1 | Purpose | 6/1/2000 | 12/29/2008 [Insert FR page number where document begins]
252:100-35-1.1 | Definitions | 6/1/2000 | 12/29/2008 [Insert FR page number where document begins]
252:100-35-2 | Emission limits | 6/1/2000 | 12/29/2008 [Insert FR page number where document begins]
Subchapter 37. Control of Emission of Organic Materials
PART 1. GENERAL PROVISIONS
252:100-37-1 | Purpose | 6/11/1999 | 12/29/2008 [Insert FR page number where document begins]
252:100-37-2 | Definitions | 6/11/1999 | 12/29/2008 [Insert FR page number where document begins]
252:100-37-3 | Applicability and compliance | 6/11/1999 | 12/29/2008 [Insert FR page number where document begins]
252:100-37-4 | Exemptions | 6/11/1999 | 12/29/2008 [Insert FR page number where document begins]
252:100-37-5 | Operation and maintenance | 6/11/1999 | 12/29/2008 [Insert FR page number where document begins]
PART 3. CONTROL OF VOCs IN STORAGE AND LOADING OPERATIONS
252:100-37-15 | Storage of VOCs | 6/11/1999 | 12/29/2008 [Insert FR page number where document begins]
252:100-37-16 | Loading of VOCs | 6/11/1999 | 12/29/2008 [Insert FR page number where document begins]
PART 5. CONTROL OF VOCs IN COATING OPERATIONS
252:100-37-25 | Coating of parts and products | 6/11/1999 | 12/29/2008 [Insert FR page number where document begins]
252:100-37-26 | Clean up with VOCs | 6/11/1999 | 12/29/2008 [Insert FR page number where document begins]
PART 7. CONTROL OF SPECIFIC PROCESSES
252:100-37-35 | Waste gas disposal | 6/11/1999 | 12/29/2008 [Insert FR page number where document begins]
252:100-37-36 | Fuel-burning and refuse-burning equipment | 6/11/1999 | 12/29/2008 [Insert FR page number where document begins]
252:100-37-37 | Effluent water separators | 6/11/1999 | 12/29/2008 [Insert FR page number where document begins]
252:100-37-38 | Pumps and compressors | 6/11/1999 | 12/29/2008 [Insert FR page number where document begins]
PART 9. PERMIT BY RULE FOR VOC STORAGE AND LEADING FACILITIES
252:100-37-41 | Applicability | 6/11/1999 | 12/29/2008 [Insert FR page number where document begins]
252:100-37-42 | Permit-by-rule requirements | 6/11/1999 | 12/29/2008 [Insert FR page number where document begins]
Subchapter 39. Emission of Organic Materials in Nonattainment Areas
PART 1. GENERAL PROVISIONS
252:100-39-1 | Purpose | 6/11/1999 | 12/29/2008 [Insert FR page number where document begins]
252:100-39-2 | Definitions | 6/11/1999 | 12/29/2008 [Insert FR page number where document begins]
252:100-39-3 | General applicability | 6/11/1999 | 12/29/2008 [Insert FR page number where document begins]
252:100-39-4 | Exemptions | 6/11/1999 | 12/29/2008 [Insert FR page number where document begins]
PART 3. PETROLEUM REFINERY OPERATIONS
252:100-39-15 | Petroleum refinery equipment leaks | 6/11/1999 | 12/29/2008 [Insert FR page number where document begins]
252:100-39-16 | Petroleum refinery process unit turnaround | 6/11/1999 | 12/29/2008 [Insert FR page number where document begins]
252:100-39-17 | Petroleum refinery vacuum producing system | 6/11/1999 | 12/29/2008 [Insert FR page number where document begins]
252:100-39-18 | Petroleum refinery effluent water separators | 6/11/1999 | 12/29/2008 [Insert FR page number where document begins]
PART 5. PETROLEUM PROCESSING AND STORAGE
252:100-39-30 | Petroleum liquid storage in vessels with external floating roofs | 6/11/1999 | 12/29/2008 [Insert FR page number where document begins]
PART 7. SPECIFIC OPERATIONS
252:100-39-40 | Cutback asphalt (paving) | 6/11/1999 | 12/29/2008 [Insert FR page number where document begins]
252:100-39-41 | Storage, loading and transport/delivery of VOCs | 6/11/1999 | 12/29/2008 [Insert FR page number where document begins]
252:100-39-42 | Metal cleaning | 6/11/1999 | 12/29/2008 [Insert FR page number where document begins]
252:100-39-43 | Graphic arts systems | 6/11/1999 | 12/29/2008 [Insert FR page number where document begins]
252:100-39-44 | Manufacture of pneumatic rubber tires | 6/11/1999 | 12/29/2008 [Insert FR page number where document begins]
252:100-39-45 | Petroleum (solvent) dry cleaning | 6/11/1999 | 12/29/2008 [Insert FR page number where document begins]
252:100-39-46 | Coating of parts and products | 6/11/1999 | 12/29/2008 [Insert FR page number where document begins]
252:100-39-47 | Control of VOC emissions from aerospace industries coatings operations | 6/11/1999 | 12/29/2008 [Insert FR page number where document begins]
252:100-39-49 | Manufacturing of fiberglass reinforced plastic products | 6/11/1999 | 12/29/2008 [Insert FR page number where document begins]
Subchapter 43. Sampling and Testing Methods
* * * * * * *
Subchapter 45. Monitoring of Emissions
252:100-45-1 | Purpose | 5/26/1994 | 11/3/1999, 64 FR 59629
252:100-45-2 | Monitoring equipment required | 5/26/1994 | 11/3/1999, 64 FR 59629
252:100-45-3 | Records required | 5/26/1994 | 11/3/1999, 64 FR 59629
252:100-45-4 | Compliance certifications | 7/1/1995 | 12/29/2008 [Insert FR page number where document begins]
252:100-45-5 | Enforceability | 7/1/1995 | 12/29/2008 [Insert FR page number where document begins]
Appendices for OAC 252: Chapter 100
252:100, Appendix A | Allowable Emissions for Incinerators with Capacities of 100/lbs/hr or Greater | 6/25/1998 | 12/29/2008 [Insert FR page number where document begins]
252:100, Appendix B | Allowable Emissions for Incinerators with Capacities less than 100 lbs/hr | 6/25/1998 | 12/29/2008 [Insert FR page number where document begins]
252:100, Appendix C | Allowable Rate of Emissions for Indirectly Fired Fuel-Burning Units | 6/1/2001 | 12/29/2008 [Insert FR page number where document begins]
252:100, Appendix D | Allowable Rate of Emissions for Indirectly Fired Wood Fuel-Burning Units | 6/1/2000 | 12/29/2008 [Insert FR page number where document begins]
252:100, Appendix E | Primary Ambient Air Quality Standards | 6/1/1999 | 12/29/2008 [Insert FR page number where document begins]
252:100, Appendix F | Secondary Ambient Air Quality Standards | 6/1/1999 | 12/29/2008 [Insert FR page number where document begins]
252:100, Appendix G | Allowable Rate of Emissions | 5/26/1994 | 11/30/1999, 64 FR 59629
252:100, Appendix L | PM-10 Emission Factors for Permit by Rule for Grain Elevators | 6/1/1999 | 12/29/2008 [Insert FR page number where document begins]
OKLAHOMA ADMINISTRATIVE CODE, TITLE 595. DEPARTMENT OF PUBLIC SAFETY, CHAPTER 20 (OAC 595:20). INSPECTION AND EQUIPMENT FOR MOTOR VEHICLES
* * * * * * *

[FR Doc. E8-29979 Filed 12-24-08; 8:45 am]

BILLING CODE 6560-50-P